DEPARTMENT OF HOMELAND SECURITY

Federal Emergency Management Agency

44 CFR Part 65

[Docket No. FEMA-B-1005]

Changes in Flood Elevation Determinations

AGENCY: Federal Emergency Management Agency, DHS.

ACTION: Interim rule.

SUMMARY: This interim rule lists communities where modification of the Base(1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes to BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Cochise | Unincorporated areas of Cochise County (06-09-B939P) | July 31, 2008; August 7, 2008; Sierra Vista Herald | The Honorable Richard Searle, Chairman, Cochise County Board of Supervisors, 1415 West Melody Lane, Building G, Bisbee, AZ 85603 | September 2, 2008 | 040012
Cochise | City of Sierra Vista (06-09-B939P) | July 31, 2008; August 7, 2008; Sierra Vista Herald | The Honorable Bob Strain, Mayor, City of Sierra Vista, 1011 North Coronado Drive, Sierra Vista, AZ 85635 | September 2, 2008 | 040017
Maricopa | City of Glendale (08-09-1010P) | August 7, 2008; August 14, 2008; The Glendale Star | The Honorable Elaine M. Scruggs, Mayor, City of Glendale, 5850 West Glendale Avenue, Glendale, AZ 85301 | December 12, 2008 | 040045
Pima | Unincorporated areas of Pima County (08-09-0454P) | August 7, 2008; August 14, 2008; The Daily Territorial | The Honorable Richard Elias, Chairman, Pima County Board of Supervisors, 130 West Congress, 11th Floor, Tucson, AZ 85701 | July 21, 2008 | 040073
Pima | City of Tucson (08-09-0454P) | August 7, 2008; August 14, 2008; The Daily Territorial | The Honorable Bob Walkup, Mayor, City of Tucson, P.O. Box 27210, Tucson, AZ 85726 | July 21, 2008 | 040076
Yavapai | City of Prescott (08-09-0020P) | August 21, 2008; August 28, 2008; Prescott Daily Courier | The Honorable Jack Wilson, Mayor, City of Prescott, 201 South Cortez Street, Prescott, AZ 86303 | December 26, 2008 | 040098
California: San Diego | Unincorporated areas of San Diego County (08-09-0332P) | August 18, 2008; August 25, 2008; San Diego Daily Transcript | Mr. Ron Roberts, San Diego County Board of Supervisors, 1600 Pacific Highway, Room 335, San Diego, CA 92101 | December 23, 2008 | 060284
Florida:
Collier | City of Marco Island (08-04-4259P) | August 14, 2008; August 21, 2008; Naples Daily News | The Honorable William D. Trotter, Chairman, City Council, City of Marco Island, 50 Bald Eagle Drive, Marco Island, FL 34145 | July 31, 2008 | 120426
Lee | Unincorporated areas of Lee County (08-04-2060P) | August 13, 2008; August 20, 2008; Fort Meyer News Press | The Honorable Ray Judah, Chairman, Lee County Board of Commissioners, P.O. Box 398, Fort Myers, FL 33902 | August 29, 2008 | 125124
Miami-Dade | City of Miami (08-04-2590P) | August 15, 2008; August 22, 2008; Miami Herald | The Honorable Manuel A. Diaz, Mayor, City of Miami, 3500 Pan American Drive, Miami, FL 33133 | July 31, 2008 | 120650
Georgia:
Barrow | Unincorporated areas of Barrow County (08-04-3647P) | August 6, 2008; August 13, 2008; The Barrow County News | The Honorable Douglas H. Garrison, Chairman, Barrow County Board of Commissioners, 233 East Broad Street, Winder, GA 30680 | December 11, 2008 | 130497
Gwinnett | City of Duluth (08-04-3497P) | August 14, 2008; August 21, 2008; Gwinnett Daily Post | The Honorable Nancy Harris, Mayor, City of Duluth, 3167 Main Street, Duluth, GA 30096 | August 12, 2008 | 130098
Muscogee County Consolidated Government | City of Columbus (08-04-4426P) | May 22, 2008; May 29, 2008; Columbus Ledger-Enquirer | The Honorable Jim Wetherington, Mayor, City of Columbus—Muscogee County Consolidated Government, P.O. Box 1340, Columbus, GA 31902 | August 27, 2008 | 135158
Illinois: Will | Village of Shorewood (08-05-1099P) | August 12, 2008; August 19, 2008; The Herald News | The Honorable Richard E. Chapman, Village President, Village of Shorewood, One Towne Center Boulevard, Shorewood, IL 60404 | July 31, 2008 | 170712
Massachusetts: Essex | City of Beverly (08-01-0002P) | August 13, 2008; August 20, 2008; The Salem News | The Honorable William Scanlon, Jr., Mayor, City of Beverly, 191 Cabot Street, Beverly, MA 01915 | August 1, 2008 | 250077
Montana: Flathead | Unincorporated areas of Flathead County (08-08-0149P) | August 15, 2008; August 22, 2008; Daily Inter Lake | The Honorable Gary D. Hall, Chairman, Flathead County Board of Commissioners, 800 South Main Street, Kalispell, MT 59901 | July 31, 2008 | 300023
North Carolina: Alamance | City of Burlington (07-04-6274P) | August 8, 2008; August 15, 2008; The Times-News | The Honorable Ronnie K. Wall, Mayor, City of Burlington, Municipal Building, P.O. Box 1358, 425 South Lexington Avenue, Burlington, North Carolina 27216 | December 15, 2008 | 370002
South Carolina:
Richland | City of Columbia (08-04-0847P) | August 15, 2008; August 22, 2008; The Columbia Star | The Honorable Robert D. Coble, Mayor, City of Columbia, P.O. Box 147, Columbia, SC 29217 | August 30, 2008 | 450172
Richland | City of Forest Acres (08-04-0847P) | August 15, 2008; August 22, 2008; The Columbia Star | The Honorable Frank Brunson, Mayor, City of Forest Acres, 5205 North Trenholm Road, Forest Acres, SC 29206 | August 30, 2008 | 450174
Richland | Unincorporated areas of Richland County (08-04-2062P) | August 22, 2008; August 29, 2008; The Columbia Star | The Honorable Joseph McEachern, Chairman, Richland County Council, Richland County Administrative Building, 2020 Hampton Street, Second Floor, Columbia, SC 29202 | July 31, 2008 | 450170
Tennessee: Knox | Unincorporated areas of Knox County (08-04-3371P) | August 13, 2008; August 20, 2008; The Knoxville News-Sentinel | The Honorable Mike Ragsdale, Mayor, Knox County, 400 Main Street, Suite 615, Knoxville, TN 37902 | September 2, 2008 | 475433
Texas:
Bexar | Unincorporated areas of Bexar County (08-06-0467P) | August 1, 2008; August 8, 2008; Daily Commercial Recorder | The Honorable Nelson W. Wolff, Bexar County Judge, 100 Dolorosa Street, Suite 1.20, San Antonio, TX 78205 | December 8, 2008 | 480035
Bexar | City of San Antonio (08-06-0206P) | July 31, 2008; August 7, 2008; San Antonio Express News | The Honorable Phil Hardberger, Mayor, City of San Antonio, P.O. Box 839966, San Antonio, TX 78283 | December 5, 2008 | 480045
Dallas | City of Desoto (08-06-0205P) | August 1, 2008; August 8, 2008; Focus Daily News | The Honorable Bobby Waddle, Mayor, City of Desoto, 211 East Pleasant Run Road, Desoto, TX 75115 | November 31, 2008 | 480172
Denton | City of Denton (08-06-1636P) | August 13, 2008; August 20, 2008; Denton Record-Chronicle | The Honorable Mark Burroughs, Mayor, City of Denton, 215 East Mckinney Street, Denton, TX 76201 | December 18, 2008 | 480194
Denton | Unincorporated areas of Denton County (08-06-1636P) | August 13, 2008; August 20, 2008; Denton Record-Chronicle | The Honorable Mary Horn, Denton County Judge, 110 West Hickory Street, 2nd Floor, Denton, TX 76201 | December 18, 2008 | 480774
Harris | Unincorporated areas of Harris County (08-06-0268P) | August 18, 2008; August 25, 2008; Houston Chronicle | The Honorable Ed Emmett, Harris County Judge, 1001 Preston Street, Suite 911, Houston, TX 77002 | December 23, 2008 | 480287
Utah: Davis | City of Kaysville (08-08-0369P) | August 21, 2008; August 28, 2008; Standard Examiner | The Honorable Neka Roundy, Mayor, City of Kaysville, 23 East Center Street, Kaysville, UT 84037 | December 26, 2008 | 490046
Virginia: Fauquier | Unincorporated areas of Fauquier County (08-03-0544P) | August 13, 2008; August 20, 2008; Fauquier Times Democrat | The Honorable Chester Stribling, Chairman, Board of Supervisors, Fauquier County, 10 Hotel Street, Warrenton, VA 20186 | July 31, 2008 | 510055

(Catalog of Federal Domestic Assistance No. 97.022, “Flood Insurance.”)

Dated: September 10, 2008.
David I. Maurstad,
Federal Insurance Administrator of the National Flood Insurance Program, Department of Homeland Security, Federal Emergency Management Agency.

[FR Doc. E8-21689 Filed 9-16-08; 8:45 am]

BILLING CODE 9110-12-P